DEPARTMENT OF DEFENSE

Office of the Secretary

Defense Science Board

AGENCY: Department of Defense.

ACTION: Notice of Advisory Committee Meetings.

SUMMARY: The Defense Science Board Task Force on Energy Strategy will meet in closed session on October 6, 2006; November 29, 2006; and December 14, 2006; at Science Applications International Corporation (SAIC); 8301 Greensboro Drive, McLean, VA. This meeting will specifically identify strategic transition-opportunities inherently offered by technologies that have implications for energy and their systemic second- and third-order effects. The briefings will contain proprietary material from the private business sector.

The mission of the Defense Science Board is to advise the Secretary of Defense and the Under Secretary of Defense for Acquisition, Technology & Logistics on scientific and technical matters as they affect the perceived needs of the Department of Defense. At these meetings, the Defense Science Board Task Force will: identify DoD operational and strategic constraints and vulnerabilities created by optimizing tactical platforms and capabilities without regard to energy usage; programs and means for the DoD to reduce its energy demand, particularly on petroleum-based fuels; and examine implications of alternative.

In accordance with Section 10(d) of the Federal Advisory Committee Act, P.L. No. 92-463, as amended (5 U.S.C. App. II), it has been determined that these Defense Science Board Task Force meetings concern matters listed in 5 U.S.C. 552b(c)(4) and that, accordingly, the meetings will be closed to the public.

FOR FURTHER INFORMATION CONTACT: Major Chad Lominac, USAF, Defense Science Board, 3140 Defense Pentagon, Room 3C553, Washington, DC 20301-3140, via e-mail at charles.lominac@osd.mil, or via phone at (703) 571-0081.

Dated: September 25, 2006.
C.R. Choate,
Alternate OSD Federal Register Liaison Officer, Department of Defense.

[FR Doc. 06-8362 Filed 9-28-06; 8:45 am]

BILLING CODE 5001-06-M